ENVIRONMENTAL PROTECTION AGENCY

[EPA-HQ-OPP-2010-0014; FRL-9966-12]

Product Cancellation Order for Certain Pesticide Registrations; Correction

AGENCY: Environmental Protection Agency (EPA).

ACTION: Notice.

SUMMARY: EPA issued notices in the Federal Register of June 8, 2016, and July 5, 2017, concerning receipt of requests to voluntarily cancel certain pesticide registrations and its follow-up product cancellation order. In the notice of July 5, 2017, EPA inadvertently listed the pesticide products Dithiopyr 0.13% Plus Fertilizer (EPA Reg. No. 53883-207), Dithiopyr 0.25% Plus Fertilizer (EPA Reg. No. 53883-208), Dithiopyr 0.172% Plus Fertilizer (EPA Reg. No. 53883-209), Dithiopyr 0.107% Plus Fertilizer (EPA Reg. No. 53883-210), Dithiopyr 0.06% Plus Fertilizer (EPA Reg. No. 53883-211), Dithiopyr 0.086% Plus Fertilizer (EPA Reg. No. 53883-212), Dithiopyr 0.1% Plus Fertilizer (EPA Reg. No. 53883-213), Dithiopyr Concentrate for Fertilizer (EPA Reg. No. 53883-268) and Quali-Pro Dithiopyr 2L (EPA Reg. No. 53883-311). The registrant had responded with a letter to the Office of Pesticide Programs dated June 10, 2016 requesting that the nine products not be cancelled. The letter was never forwarded to be included in the public docket for this Federal Register notice so the products were listed in the notice of July 5, 2017, in error. Therefore, EPA is not cancelling the pesticide products Dithiopyr 0.13% Plus Fertilizer (EPA Reg. No. 53883-207), Dithiopyr 0.25% Plus Fertilizer (EPA Reg. No. 53883-208), Dithiopyr 0.172% Plus Fertilizer (EPA Reg. No. 53883-209), Dithiopyr 0.107% Plus Fertilizer (EPA Reg. No. 53883-210), Dithiopyr 0.06% Plus Fertilizer (EPA Reg. No. 53883-211), Dithiopyr 0.086% Plus Fertilizer (EPA Reg. No. 53883-212), Dithiopyr 0.1% Plus Fertilizer (EPA Reg. No. 53883-213), Dithiopyr Concentrate for Fertilizer (EPA Reg. No. 53883-268) and Quali-Pro Dithiopyr 2L (EPA Reg. No. 53883-311). This document removes the cancellation order for EPA Reg. Numbers 53883-207, 53883-208, 53883-209, 53883-210, 53883-211, 53883-212, 53883-213, EPA Reg. No. 53883-268 and 53883-311 listed in the July 5, 2017, Federal Register notice.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued notices in the Federal Register of June 8, 2016 (FRL-9943-68), and July 5, 2017 (9962-88), concerning receipt of requests to voluntarily cancel certain pesticide registrations and its follow-up product cancellation order, respectively. In the notice of July 5, 2017, EPA inadvertently listed the pesticide products Dithiopyr 0.13% Plus Fertilizer (EPA Reg. No. 53883-207), Dithiopyr 0.25% Plus Fertilizer (EPA Reg. No. 53883-208), Dithiopyr 0.172% Plus Fertilizer (EPA Reg. No. 53883-209), Dithiopyr 0.107% Plus Fertilizer (EPA Reg. No. 53883-210), Dithiopyr 0.06% Plus Fertilizer (EPA Reg. No. 53883-211), Dithiopyr 0.086% Plus Fertilizer (EPA Reg. No. 53883-212), Dithiopyr 0.1% Plus Fertilizer (EPA Reg. No. 53883-213), Dithiopyr Concentrate for Fertilizer (EPA Reg. No. 53883-268) and Quali-Pro Dithiopyr 2L (EPA Reg. No. 53883-311). The registrant had responded with a letter to the Office of Pesticide Programs dated June 10, 2016 requesting that the nine products not be cancelled. The letter was never forwarded to be included in the public docket for this Federal Register notice so the products were listed in the notice of July 5, 2017, in error. Therefore, EPA is not cancelling the pesticide products Dithiopyr 0.13% Plus Fertilizer (EPA Reg. No. 53883-207), Dithiopyr 0.25% Plus Fertilizer (EPA Reg. No. 53883-208), Dithiopyr 0.172% Plus Fertilizer (EPA Reg. No. 53883-209), Dithiopyr 0.107% Plus Fertilizer (EPA Reg. No. 53883-210), Dithiopyr 0.06% Plus Fertilizer (EPA Reg. No. 53883-211), Dithiopyr 0.086% Plus Fertilizer (EPA Reg. No. 53883-212), Dithiopyr 0.1% Plus Fertilizer (EPA Reg. No. 53883-213), Dithiopyr Concentrate for Fertilizer (EPA Reg. No. 53883-268) and Quali-Pro Dithiopyr 2L (EPA Reg. No. 53883-311). Herein this document is removing the cancellation order for EPA Reg. Numbers 53883-207, 53883-208, 53883-209, 53883-210, 53883-211, 53883-212, 53883-213, 53883-268 and 53883-311 listed in the July 5, 2017, Federal Register notice.

Authority: 7 U.S.C. 136 et seq.

Dated: August 21, 2017.
Hamaad Syed,
Acting Director, Information Technology and Resources Management Division, Office of Pesticide Programs.

[FR Doc. 2017-19459 Filed 9-12-17; 8:45 am]

BILLING CODE 6560-50-P